MEDICARE PAYMENT ADVISORY COMMISSION

Commission Meeting

AGENCY: Medicare Payment Advisory Commission.

ACTION: Notice of meeting.

SUMMARY: The Commission will hold its next public meeting on Wednesday, January 16, 2002, and Thursday, January 17, 2002, at the Ronald Reagan Building, International Trade Center, 1300 Pennsylvania Avenue, NW, Washington, DC. The meeting is tentatively scheduled to begin at 10 a.m. on January 16, and at 9 a.m. on January 17.

Topics for discussion include: Should Medicare payments take into account other payers' behavior?; assessing payment adequacy and updating Medicare payments for physician services, outpatient dialysis services, inpatient and outpatient hospital services, skilled nursing facility care, and home health services, measuring changes in input prices in traditional Medicare; Medicare+Choice; adjusting for local differences in resident training costs, and assessing the Medicare benefit package.

Agendas will be mailed on January 8, 2002. The final agenda will be available on the Commission's Web site (www.MedPAC.gov).

ADDRESSES: MedPAC's address is: 1730 K Street, NW, Suite 800, Washington, DC 20006. The telephone number is (202) 653-7220.

FOR FURTHER INFORMATION CONTACT: Diane Ellison, Office Manager, (202) 653-7220.

Murray N. Ross,
Executive Director.

[FR Doc. 02-368 Filed 1-7-02; 8:45 am]

BILLING CODE 6820-BW-M